DEPARTMENT OF COMMERCE

Foreign-Trade Zones Board

(Docket 26-2008)

Foreign-Trade Zone 14 -- Little Rock, Arkansas Application for Subzone Status Husqvarna Outdoor Products Inc. (Outdoor Power Products Manufacturing) Nashville, Arkansas

An application has been submitted to the Foreign-Trade Zones Board (the Board) by the Arkansas Economic Development Commission, grantee of Foreign-Trade Zone (FTZ) 14, requesting special-purpose subzone status for the outdoor power products manufacturing facility of Husqvarna Outdoor Products Inc. (Husqvarna) located in Nashville, Arkansas. The application was submitted pursuant to the provisions of the Foreign-Trade Zones Act, as amended (19 U.S.C. 81a-81u), and the regulations of the Board (15 CFR Part 400). It was formally filed on April 29, 2008.

The Husqvarna facility is located at 1 Poulan Drive, in Nashville (96 acres, 1,400 employees). The facility is used for manufacturing various types of gas-powered outdoor products (blowers, trimmers and chainsaws, HTSUS numbers 8414.59, 8430.20, 8467.89 and 8467.81). At full capacity the Husqvarna facility can produce up to 3.9 million units annually. Imported components and raw materials account for approximately 35 percent of the value of inputs used in manufacturing. Parts and components that may be imported into the proposed subzone for manufacturing include: plastic tubes, pipes and hoses (3917.29); petroleum oils and oils from bituminous minerals (2710.19); carbides (2849.90); lubricating preparations (3403.19); polymides (3908.10); plastic monofilament (3916.90); self-adhesive plate, sheet, film, foils, tape and strip of plastics ( 3919.90); other plate, sheet, film, foil and strip of polymers of styrene (3921.11); plastic articles used for packing or conveyance of goods (3923.10, 3923.29, 3923.50, 3923.90); other plastic articles (3926.90); vulcanized rubber tubes, pipes and hoses (4009.11); vulcanized rubber conveyor or transmission belts (4010.36, 4010.39); vulcanized rubber washers and seals (4016.93); other vulcanized rubber products (4016.99); synthetic twine, cordage, rope and cable (5607.50); articles of yarn, strip, twine, cordage, rope or cable (5609.50); textile articles and products for technical uses (5911.90); labels (6307.90); millstones, grindstones and grinding wheels (6804.21, 6804.22); iron or steel flanges (7307.91, 7307.92); self-tapping screws (7318.14); screws and bolts, with or without washers (7318.15); nuts (7318.16); spring washers and lock washers (7318.21); non-threaded articles of iron or steel (7318.29); iron or steel helical springs (7320.90); tungsten articles/powders (8101.10); agriculture, horticulture or forestry hand tools and their parts (8201.90); handsaws, blades and their parts (8202.40); files, rasps, pliers, pincers, tweezers, pipe and bolt cutters and similar (8203.20); hand-operated spanners and wrenches (8204.11); hand tools for drilling, threading or tapping (8205.10); screwdrivers and their parts (8205.40); anvils, forges and grinding wheels and their parts (8205.70); vises, clamps and their parts (8205.70); pressing, stamping and punching tools and their parts (8207.30); drilling tools (8207.50, 8207.90); iron or steel flexible tubing (8307.10); spark-ignition internal combustion engine parts (8409.91); fuel, lubricating and cooling pumps for internal combustion piston engines and their parts (8413.30, 8413.91); air and vacuum pumps and their parts (8414.59, 8414.90); air filters (8421.31); spray guns (8424.20); tool holders (8466.10); check valves and their parts (8481.30); pressure-reducing and thermostatically controlled valves (8481.80); ball bearings (8482.10); needle roller bearings (8482.40); transmission shafts, camshafts and crankshafts and their parts (8483.10); bearing housings/plain shaft bearings (8483.30); gears and gearing and other transmission elements, including torque converters (8483.40); flywheels and pulleys, including pulley blocks (8483.50); clutches and shaft couplings, including universal joints (8483.60); toothed wheels, chain sprockets and other transmission elements (8483.900); universal AC/DC motors (8501.20); single-phase AC motors (8501.20); multi-phase AC motors (8501.52); AC generators/alternators (8501.61); electrical transformers, static convertors, inductors and their parts (8504.33, 8504.40); electromagnetic couplings, clutches and brakes (8505.20); primary cells and batteries (8506.80); lead-acid storage batteries (8507.20); spark plugs (8511.10); ignition coils (8511.30); electrical ignition or starting equipment parts (8511.90); microphones and loudspeakers (8518.30); electrical switches (8536.50); lamp-holders, plugs and sockets (8536.69, 8536.90); fluorescent lamps (8539.31); microwave tubes (8540.89); winding wire (8544.20); electrical conductors (8544.42, 8544.49); Drive and non-drive axles and parts thereof (8708.50); trailers and semi-trailers and their parts (8716.80); micrometers, calipers and gauges (9017.30); other instruments (9017.80); revolution and production counters, taximeters, odometers and pedometers (9029.10); and, stroboscopes (9029.20). The duty rates on the imported components range from duty-free to 12 percent.

This application requests authority for Husqvarna to conduct the manufacturing activity under FTZ procedures, which could exempt the company from customs duty payments on the imported components used in export production. Approximately 30 percent of production is exported. On domestic sales, the company could choose the lower duty rate (duty-free to 2.3 percent) that applies to the finished products for the imported components used in manufacturing. Husqvarna may also realize savings related to direct delivery and weekly customs entry procedures. The company would also realize savings on the elimination of duties on materials that become scrap/waste during manufacturing. The application indicates that the FTZ-related savings would improve the plant’s international competitiveness.

In accordance with the Board’s regulations, Christopher Kemp of the FTZ staff is designated examiner to investigate the application and report to the Board.

Public comment is invited from interested parties. Submissions (original and 3 copies) shall be addressed to the Board’s Executive Secretary at the address listed below. The closing period for their receipt is July 7, 2008. Rebuttal comments in response to material submitted during the foregoing period may be submitted during the subsequent 15-day period (to July 21, 2008).

A copy of the application and accompanying exhibits will be available at each of the following addresses: U. S. Department of Commerce Export Assistance Center, 425 West Capital Avenue, Suite 425, Little Rock, Arkansas, 72201; and, Office of the Executive Secretary, Foreign-Trade Zones Board, Room 2111, U.S. Department of Commerce, 1401 Constitution Avenue, NW, Washington, D.C. 20230. For further information contact Christopher Kemp at christopher_kemp@ita.doc.gov or (202) 482-0862.

Dated: April 30, 2008.
Andrew McGilvray,
Executive Secretary.

[FR Doc. E8-10086 Filed 5-6-08; 8:45 am]

BILLING CODE 3510-DS-S